DEPARTMENT OF AGRICULTURE

Food and Nutrition Service

Agency Information Collection Activities: Proposed Collection, Comment Request—Commodity Supplemental Food Program, the Food Distribution Program on Indian Reservations, and the Food Stamp Program: Title VI Civil Rights Collection Reports

AGENCY: Food and Nutrition Service, USDA.

ACTION: Notice.

SUMMARY: In accordance with the Paperwork Reduction Act of 1995, the Food and Nutrition Service (FNS) is soliciting public comment on a proposed information collection. The proposed collection is a revision of a collection currently approved under OMB No. 0584-0025, Civil Rights Title VI Collection Reports—Forms FNS-191 and FNS-101, for the Commodity Supplemental Food Program, the Food Distribution Program on Indian Reservations, and the Food Stamp Program.

DATES: Comments on this notice must be received by December 27, 2005.

ADDRESSES: Send comments and requests for copies of this information collection to Barbara Hallman, Chief, State Administration Branch, Food Stamp Program, Food and Nutrition Service, USDA, 3101 Park Center Drive, Alexandria, VA 22302. Copies of the estimate of the information collection can be obtained by contacting Ms. Hallman.

Comments are invited on: (a) Whether the proposed collection of information is necessary for the proper performance of the functions of the Agency, including whether the information will have practical utility; (b) the accuracy of the Agency's estimate of the burden of the proposed collection of information including the validity of the methodology and assumptions used; (c) ways to enhance the quality, utility, and clarity of the information to be collected; and (d) ways to minimize the burden of the collection of information on those who are to respond, including through the use of appropriate automated, electronic, mechanical, or other technological collection techniques or other forms of information technology.

All comments will be summarized and included in the request for Office of Management and Budget (OMB) approval of the information collection. All comments will become a matter of public record.

FOR FURTHER INFORMATION CONTACT: Barbara Hallman, telephone number (703) 305-2383.

SUPPLEMENTARY INFORMATION: Title: Civil Rights Title VI Collection Reports—FNS-191 and FNS-101.

OMB Number: 0584-0025.

Expiration Date: December 2005.

Type of Request: Revision of a currently approved collection.

Abstract: Title VI of the Civil Rights Act of 1964, 42 U.S.C. 2000d to 2000d-7, prohibits discrimination on the basis of race, color, and national origin in programs receiving Federal financial assistance. Department of Justice (DOJ) regulations, 28 CFR 42.406, require all Federal agencies to provide for the collection of racial/ethnic data and information from applicants for and recipients of Federal assistance sufficient to permit effective enforcement of Title VI.

For purposes of the Information Collection Notice only, the Food and Nutrition Service (FNS) employs program terminology in place of the standard Title VI terminology adopted by the U.S. Department of Agriculture (USDA) and codified at 7 CFR 15.2. Thus, “State agencies,” “local agencies,” and/or “operators” are the program entities responsible for fulfilling the data collection requirements associated with “primary recipients” and/or “recipients” as defined by Title VI. Moreover, the program terms “respondents,” “applicants,” and/or “participants” refer to the “potential beneficiaries,” “applicant beneficiaries,” and/or “actual beneficiaries” of Federal financial assistance as defined by Title VI.

In order to conform with the statutory mandates of Title VI of the Civil Rights Act of 1964, DOJ regulations, and USDA regulations on nondiscrimination in Federally assisted programs, the USDA's Food and Nutrition Service (FNS) requires State agencies to submit data on the racial/ethnic categories of persons receiving benefits from FNS food assistance programs.

In all three programs, State and local agencies collect racial/ethnic information on the benefits application form that applicants may complete and file manually or electronically. The application form must clearly indicate that the information is voluntary and that the race and ethnic information will not affect an applicant's eligibility or level of benefits. It must also state that the reason for the collection of the information is to assure that program benefits are distributed without regard to race, color or national origin. All three programs allow the individual to self-identify his or her racial/ethnic status on the application. Visual observation by a program representative is used to collect the data when the individual does not self-identify. In either case the information is recorded on the application form and entered into the agency's information system. The Federal reporting forms do not identify individual participants.

Local agencies use the two forms referenced above (i.e., the FNS-191 and FNS-101) to report data on the Commodity Supplemental Food Program (CSFP), the Food Distribution Program on Indian Reservations (FDPIR), and the Food Stamp Program (FSP) to FNS as explained below. FNS' data collection requirement for operators is found in the regulations for the CSFP at 7 CFR part 247.29(b), and for the FSP at 7 CFR part 272.6(g); the requirement for the FDPIR is found in FNS Handbook 501.

All State or local agencies must submit the appropriate form in order to receive benefits and comply with applicable legislation. If a State or local agency does not comply voluntarily, the State or local agency is subject to fund termination, suspension, or denial, or to judicial action.

CSFP local agencies complete the FNS-191 for the CSFP. FNS requires local agencies to provide annually the actual number and racial/ethnic designations of women, infants, children and elderly who receive CSFP benefits during the month of April.

FSP and FDPIR State, local or Tribal agencies complete the FNS-101. FNS requires State, local or Tribal agencies to report annually the actual number and racial/ethnic designation of households who receive FDPIR and/or FSP benefits in the month of July.

On October 30, 1997, OMB issued revised standards for the classification of Federal data on race and ethnicity in a notice in the Federal Register (62 FR 58782). The OMB standards revise the racial and ethnic categories and require that respondents be offered the option of selecting one or more racial designations. On November 27, 2002, FNS published a proposed rule (67 FR 70861) to codify a general requirement for the new racial and ethnic data collection and reporting requirements and which would implement the new data collection and reporting for the FSP. On the same day, FNS published a Notice (67 FR 70916) on the proposed information collection requirements for CSFP, FDPIR, and FSP for public comment. The comment period for both the proposed rule and the Notice ended on January 27, 2003. FNS received comments on the proposed rule and considered them in writing the final rule. A final rule for the FSP is in the final stages of clearance. Once the final rule is published, FNS plans to implement the new information collection and reporting for all three programs.

The current OMB approval of this information collection will expire on December 31, 2005. FNS had planned to publish the final rule in the latter half of 2005. However, the clearance was not completed within our expected timeframe. In order to ensure that we remain in compliance with the Paperwork Reduction Act, FNS is providing a comment period for extending the current information collection for CSFP, FDPIR, and FSP. After the final rule has been published, FNS will formally announce the effective date(s) for each of the affected programs through implementing memoranda as appropriate and will provide copies of the revised forms at that time.

Burden Estimate

Respondents: Local agencies that administer the CSFP, FDPIR, and FSP.

Number of Respondents: 2,867 (144 for CSFP, 110 for FDPIR, and 2,613 for FSP).

Estimated Number of Responses per Respondent: Form FNS-191: 144 local CSFP agencies once a year. Form FNS-101: 110 local FDPIR agencies and 2,613 local FSP agencies once a year.

Estimate of Burden: Form FNS-191: The local CSFP agencies submit Form FNS-191 at an estimate of 1.92 hours per respondent, or 276.48 total hours. There is an additional recordkeeping burden of .08 hours per respondent for maintaining the responses, or 11.52 hours. Total burden is 288 hours.

Form FNS-101: The local FDPIR and FSP agencies submit Form FNS-101 at an estimate of 2.17 hours per respondent, or 5,908.91 hours. There is an additional burden of .08 hours per respondent for maintaining the responses, or 217.84 hours. Total burden is 6,126.75 hours.

Estimated Total Annual Burden on Respondents: The revised annual reporting and recordkeeping burden for OMB No. 0584-0025 is estimated to be 6,414.75 hours, a reduction of 249.25 hours. The burden reduction is due to the decrease in the number of CSFP, FDPIR, and FSP agencies that will complete a report.

Dated: October 26, 2005.
George A. Braley,
Associate Administrator.

[FR Doc. 05-21630 Filed 10-27-05; 8:45 am]

BILLING CODE 3410-30-P